FEDERAL COMMUNICATIONS COMMISSION

Notice of Public Information Collection(s) Being Submitted for Review to the Office of Management and Budget

September 28, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 4, 2005. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., DC 20554 or via the Internet to Judith-B.Herman@fcc.gov. If you would like to obtain or view a copy of this new or revised information collection, you may do so by visiting the FCC PRA Web page at: http://www.fcc.gov/omd/pra.

FOR FURTHER INFORMATION CONTACT: For additional information or copies of the information collection(s), contact Judith B. Herman at (202) 418-0214 or via the Internet at Judith-B.Herman@fcc.gov.

SUPPLEMENTARY INFORMATION: OMB Control No.: 3060-1070.

Title: Allocations and Service Rules for 71-76 GHz, 81-86 GHz, and 92-95 GHz Bands.

Form No.: N/A.

Type of Review: Revision of a currently approved collection.

Respondents: Business or other for-profit, not-for-profit institutions and state, local and tribal government.

Number of Respondents: 1,000.

Estimated Time Per Response: 0.5 hours—1.5 hours.

Frequency of Response: On occasion reporting requirement, recordkeeping requirement and third party disclosure requirement.

Total Annual Burden: 12,000 hours.

Total Annual Cost: $1,830,000.

Privacy Act Impact Assessment: N/A.

Needs and Uses: The Commission adopted a Memorandum Opinion and Order, WT Docket No. 02-146, FCC 05-45, which revises the rules to require licensees, as part of the link registration process, to submit to the Database Manager (DM) an analysis under the interference protection criteria for the 70-80 GHz bands that demonstrates that the proposed link will neither cause nor receive harmful interference relative to previously registered non-government links. This requirement will apply to link registrations (new or modified) that are first submitted to a database manager on or after the effective date of this new requirement. The database managers will accept all interference analyses submitted during the link registration process and retain them electronically for subsequent review by the public. It is important for the “first-in-time” determination, and for adjudicating complaints filed with the Commission, that the interference analysis captures the exact snapshot in time (i.e., conditions at the time-of-link registration) that will be dispositive in a dispute. Without the benefit of an interference analysis on file, it would be much more difficult for registrants to recreate conditions accurately after the fact.

Federal Communications Commission.
Marlene H. Dortch,
Secretary.

[FR Doc. 05-19991 Filed 10-4-05; 8:45 am]

BILLING CODE 6712-01-P